DEPARTMENT OF STATE

[Public Notice 8968]

Culturally Significant Objects Imported for Exhibition Determinations: “The Habsburgs: Rarely Seen Artworks from Europe's Greatest Dynasty”

SUMMARY: Notice is hereby given of the following determinations: Pursuant to the authority vested in me by the Act of October 19, 1965 (79 Stat. 985; 22 U.S.C. 2459), E.O. 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000 (and, as appropriate, Delegation of Authority No. 257 of April 15, 2003), I hereby determine that the objects to be included in the exhibition “The Habsburgs: Rarely Seen Artworks from Europe's Greatest Dynasty,” imported from abroad for temporary exhibition within the United States, are of cultural significance. The objects are imported pursuant to a loan agreement with the foreign owner or custodian. I also determine that the exhibition or display of the exhibit objects at the Minneapolis Institute of Arts, Minneapolis, Minnesota, from on or about February 15, 2015, until on or about May 10, 2015, the Museum of Fine Arts, Houston, Houston, Texas, from on or about June 14, 2015, to on or about September 13, 2015, the High Museum of Art, Atlanta, Georgia, from on or about October 18, 2015, to on or about January 17, 2016, and at possible additional exhibitions or venues yet to be determined, is in the national interest. I have ordered that Public Notice of these Determinations be published in the Federal Register.

FOR FURTHER INFORMATION CONTACT: For further information, including a list of the imported objects, contact Paul W. Manning, Attorney-Adviser, Office of the Legal Adviser, U.S. Department of State (telephone: 202-632-6469). The mailing address is U.S. Department of State, SA-5, L/PD, Fifth Floor (Suite 5H03), Washington, DC 20522-0505.

Dated: December 5, 2014.
Kelly Keiderling,
Principal Deputy Assistant Secretary, Bureau of Educational and Cultural Affairs, Department of State.

[FR Doc. 2014-29274 Filed 12-12-14; 8:45 am]

BILLING CODE 4710-05-P